NATIONAL AERONAUTICS AND SPACE ADMINISTRATION

[Notice (05-054)]

NASA International Space Station Strategic Roadmap Committee Meeting

AGENCY: National Aeronautics and Space Administration (NASA).

ACTION: Notice of meeting.

SUMMARY: In accordance with the Federal Advisory Committee Act, Public Law 92-463, as amended, the National Aeronautics and Space Administration announces a meeting of the NASA International Space Station Strategic Roadmap Committee.

DATES: Thursday, April 7, 2005, 8:30 a.m. to 5:30 p.m., Friday, April 8, 2005, 8:30 a.m. to 5 p.m. eastern standard time.

ADDRESSES: The Magnolia Hotel, 818 17th St., Denver, Colorado 80202.

FOR FURTHER INFORMATION CONTACT: Ms. Stacey Edgington, 202-358-4519.

SUPPLEMENTARY INFORMATION: The meeting will be open to the public up to the seating capacity of the meeting room. Attendees will be requested to sign a register.

The agenda for the meeting is as follows:

—Exploration Systems Mission Directorate update.

—Progress of other Roadmap Committees:

—Exploration Transportation System (“Strategic Roadmap”);

—Robotic and Human Lunar Exploration (“Strategic Roadmap”);

—Human Health and Support Systems (“Capability Roadmap”).

—NASA Policies on Risk Management.

—Budget Overviews.

—Report Drafting.

It is imperative that the meeting be held on these dates to accommodate the scheduling priorities of the key participants.

Dated: March 14, 2005.
P. Diane Rausch,
Advisory Committee Management Officer, National Aeronautics and Space Administration.

[FR Doc. 05-5395 Filed 3-17-05; 8:45 am]

BILLING CODE 7510-13-P